DEPARTMENT OF COMMERCE

National Oceanic and Atmospheric Administration

[I.D. 051305D]

Endangered and Threatened Species; Take of Anadromous Fish

AGENCY: National Marine Fisheries Service (NMFS), National Oceanic and Atmospheric Administration, Commerce.

ACTION: Notice of availability of decision and analysis documents for incidental take permit.

SUMMARY: This notice advises the public that an incidental take permit to the Idaho Department of Fish and Game (IDFG), pursuant to the Endangered Species Act of 1973 (ESA), has been issued and that the decision documents are available upon request.

DATES: Permit 1481 was issued on March 30, 2005, subject to certain conditions set forth therein. The permit expires on May 31, 2010.

ADDRESSES: Requests for copies of the decision documents or any of the other associated documents should be directed to the Salmon Recovery Division, National Marine Fisheries Service, 10095 W. Emerald, Boise, Idaho 83704. The documents are also available on the Internet at www.nwr.noaa.gov.

FOR FURTHER INFORMATION CONTACT: Herb Pollard, Boise, Idaho, at phone number: (208) 378-5614, e-mail: herbert.pollard@noaa.gov.

SUPPLEMENTARY INFORMATION: This notice is relevant to the following species and evolutionarily significant units (ESUs):

Spring/summer chinook salmon (Oncorhynchus tshawytscha): threatened Snake River;

Fall chinook salmon (Oncorhynchus tshawytscha): threatened Snake River;

Sockeye salmon (Oncorhynchus nerka): endangered Snake River; and

Steelhead (Oncorhynchus mykiss): threatened Snake River.

Permits

Permit 1481 was issued to IDFG on March 31, 2005. Permit 1481 authorizes IDFG annual incidental take of naturally produced and artificially propagated ESA-listed anadromous fish associated with the operation of recreational fisheries that target non-listed, hatchery-origin anadromous fish and resident game fish species. Permit 1481 expires May 31, 2010.

Permit 1481 authorizes IDFG's recreational fishing programs, including the following activities: (1) Resident recreational fishing in waters that also support ESA-listed chinook and sockeye salmon under the IDFG General Fishing Regulations, including kokanee and trout fisheries in Redfish, Alturas, and Pettit Lakes; (2) chinook salmon recreational fishing in the Clearwater River, Snake River, Salmon River, Little Salmon River, and South Fork Salmon River under the IDFG Anadromous Salmon Fishing Regulations; and (3) summer steelhead fishing during the fall and spring seasons under the IDFG Steelhead Fishing Regulations. The permit constitutes authorization for implementation of the IDFG General Fishing Regulations, the IDFG Anadromous Salmon Fishing Regulations, and the IDFG Steelhead Fishing Regulations. Recreational fisheries are monitored in a manner that allows evaluation of the effectiveness of protective regulations and conservation strategies.

NMFS' conditions in the permit will ensure that the take of ESA-listed anadromous fish will not jeopardize the continued existence of the listed species. In issuing the permits, NMFS determined that IDFG's Conservation Plan provides adequate mitigation measures to avoid, minimize, or compensate for take of ESA-listed anadromous fish.

Issuance of this permit, as required by the ESA, was based on a finding that the permit: (1) was applied for in good faith; (2) will not operate to the disadvantage of the listed species which are the subject of the permit; and (3) is consistent with the purposes and policies set forth in section 2 of the ESA. This permit was issued in accordance with, and is subject to, 50 CFR part 222, the NMFS regulations governing listed species permits.

Dated: May 17, 2005.
Phil Williams,
Chief, Endangered Species Division, Office of Protected Resources, National Marine Fisheries Service.

[FR Doc. 05-10128 Filed 5-19-05; 8:45 am]

BILLING CODE 3510-22-S